DEPARTMENT OF THE INTERIOR

Bureau of Land Management

[F-14879-A, F-14879-A2; AK-965-1410-KC-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Kotlik Yupik Corporation. The lands are in the vicinity of Kotlik, Alaska, and are located in:

Kateel River Meridian, Alaska

T. 28 S., R. 23 W.,

Secs. 1, 2, 12, and 13;

Secs. 23, 24, 26, and 27;

Secs. 33, 34, and 35.

Containing approximately 6,625 acres.

T. 29 S., R. 23 W.,

Sec. 4.

Containing approximately 562 acres.

T. 26 S., R. 27 W.,

Secs. 18, 19, 30, and 31.

Containing approximately 1,636 acres.

T. 27 S., R. 27 W.,

Secs. 15, 22, and 27.

Containing approximately 1,736 acres.

T. 26 S., R. 28 W.,

Secs. 4 to 11, inclusive;

Secs. 13 to 17, inclusive;

Secs. 22 to 25, inclusive;

Sec. 36.

Containing approximately 7,829 acres.

Aggregating approximately 8,388 acres.

Seward Meridian, Alaska

T. 33 N., R. 73 W.,

Sec. 6.

Containing approximately 329 acres.

T. 34 N., R. 73 W.,

Secs. 31, 32, and 33.

Containing approximately 1,655 acres.

Aggregating approximately 1,984 acres.

Total aggregate of approximately 20,372 acres.

A portion of the subsurface estate in these lands will be conveyed to Calista Corporation when the surface estate is conveyed to Kotlik Yupik Corporation. The remaining lands lie within Clarence Rhode National Wildlife Range, established January 20, 1969. The subsurface estate in the refuge lands will be reserved to the United States at the time of conveyance. Notice of the decision will also be published four times in the Tundra Drums.

DATES: The time limits for filing an appeal are:

1. Any party claiming a property interest which is adversely affected by the decision shall have until August 22, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Robert Childers,
Land Law Examiner, Land Transfer Adjudication II.

[FR Doc. E8-16882 Filed 7-22-08; 8:45 am]

BILLING CODE 4310-JA-P